PEACE CORPS

Peace Corps Information Quality Guidelines

AGENCY: Peace Corps.

ACTION: Notice of availability of information quality guidelines.

SUMMARY: The Peace Corps gives notice of the availability of its information quality guidelines. The guidelines are required by law and are intended to ensure and maximize the quality of information disseminated to the public by the Peace Corps. The guidelines are based on those issued by the Office of Management and Budget (OMB) on January 3, 2002 (67 FR 369-378), as corrected and reprinted on February 22, 2002 (67 FR 8451-8460). The guidelines set out the Agency's policies and procedures for ensuring the quality (objectivity, utility, and integrity) of information provided to the public. The guidelines also establish administrative mechanisms permitting affected persons to seek and obtain, where appropriate, timely correction of information maintained and disseminated by the Agency that does not comply with the OMB or its own guidelines. These guidelines represent Agency policy and procedures and have no legal effect and do not create any legal rights or obligations.

DATES: The guidelines are effective upon their issuance on the Peace Corps public Web site http://www.peacecorps.gov

FOR FURTHER INFORMATION CONTACT: Suzanne B. Glasow, Associate general Counsel, 202-692-2150.

SUPPLEMENTARY INFORMATION: OMB issued guidelines on January 3, 2002 (67 FR 369-378), as corrected and reprinted on February 22, 2002 (67 FR 8451-8460), to implement Section 151 of the Treasury and General Government Appropriations Act for FY 2001 (Public Law 106-554, HR 5658). Section 515 and the OMB Guidelines require each federal agency subject to the Paperwork Reduction Act to issue its own guidelines that provide policies and procedures used by the Agency to ensure the objectivity, utility, and integrity of information disseminated by the Agency. The guidelines must also establish administrative mechanisms allowing affected persons to obtain correction of information disseminated to the public that does not comply with OMB and Agency guidelines. The Peace Corps published proposed guidelines in the Federal Register on August 21, 2002, and requested public comment on the guidelines. See 67 FR 54329. the Agency received no comments from the public. The Agency did receive comments and guidance from OMB that have been integrated into the final guidelines. The guidelines may be accessed on the Agency's public Web site at http://www.peacecorps.gov or by written request addressed to Suzanne B. Glasow, Office of the General Counsel, 1111 20th Street, NW., Washington DC 20526.

Dated: September 30, 2002.
Tyler S. Posey,
General Counsel.

[FR Doc. 02-25176 Filed 10-2-02; 8:45 am]

BILLING CODE 6015-01-M